DEPARTMENT OF THE INTERIOR

National Park Service

[NPS-WASO-NAGPRA-NPS0038965; PPWOCRADN0-PCU00RP14.R50000]

Notice of Intended Repatriation: University of Georgia, Laboratory of Archaeology, Athens, GA

AGENCY: National Park Service, Interior.

ACTION: Notice.

SUMMARY: In accordance with the Native American Graves Protection and Repatriation Act (NAGPRA), the University of Georgia, Laboratory of Archaeology intends to repatriate certain cultural items that meet the definition of unassociated funerary objects and that have a cultural affiliation with the Indian Tribes or Native Hawaiian organizations in this notice.

DATES: Repatriation of the cultural items in this notice may occur on or after November 29, 2024.

ADDRESSES: Amanda Thompson, University of Georgia, Laboratory of Archaeology, 1125 Whitehall Road, Athens, GA 30605, telephone (706) 542-8737, email arobthom@uga.edu.

SUPPLEMENTARY INFORMATION: This notice is published as part of the National Park Service's administrative responsibilities under NAGPRA. The determinations in this notice are the sole responsibility of the University of Georgia, Laboratory of Archaeology, and additional information on the determinations in this notice, including the results of consultation, can be found in the summary or related records. The National Park Service is not responsible for the determinations in this notice.

Abstract of Information Available

A total of 2,739 cultural items have been requested for repatriation. The 2,739 of unassociated funerary objects are a copper axe, pipe effigy fragment, lithics, indigenous ceramics, sherdlets, faunal remains including drum teeth, shell, unmodified slate fragment, mica, botanical shell bead, eroded garnet, burnt clay, glass, flotation samples.

In approximately the 1940s, one copper axe was removed from 9BR24 Shaw Mound, a burial mound, in Bartow County, Georgia. The collection was excavated by the landowner, Frank Shaw, in 1940. The object was given to the Department of Anthropology in 1994. This object was collected from the burial mound is considered an unassociated funerary object. No known research has been conducted on these objects. There is no record of any potentially hazardous substances used to treat the unassociated funerary objects.

In 1984, Bill Kilmer collected 26 lithics and indigenous ceramics from 9BR26 in Bartow County, Georgia. The material currently housed at the University of Georgia Laboratory of Archaeology was collected by Bill Killmer in 1984. These objects were noted as being collected above the burial and are being considered unassociated funerary objects. No known research has been conducted on these objects. There is no record of any potentially hazardous substances used to treat the unassociated funerary objects.

In 1991, a collection that is believed to be from 9BR57, Garfield in Bartow County, Georgia was transferred to the University of Georgia, Laboratory of Archaeology. It is unclear who transferred the collection. James Chapman's name is associated with the material housed at the UGA Laboratory of Archaeology. The one lot (1983.9) faunal remains are included here as unassociated funerary objects for the proveniences that contain ancestral remains. It is not known what, if any additional research has been done on these objects. There is no record of any potentially hazardous substances used to treat the unassociated funerary objects.

In 1951, Mary Kellog surface collected five lithics, sherdlets, and unmodified slate fragment from 9BR195, in Bartow County, Georgia. Due to proximity of proveniences with ancestors, these objects are considered unassociated funerary objects. It is not known what, if any additional research has been done on these objects. There is no record of any potentially hazardous substances used to treat the unassociated funerary objects.

In 1951, Arthur Kelly and Mary Kellog excavated 59 indigenous ceramics, lithics, mica, faunal, botanical, shell bead, and eroded garnet from 9BR199, Cora Harris Cave in Bartow County, Georgia. Because of the nature of disturbance from looting at the site, these objects are considered unassociated funerary objects to the ancestors excavated at the site. It is not known what, if any additional research has been done on these objects. There is no record of any potentially hazardous substances used to treat the unassociated funerary objects.

In 1951, Arthur Kelly and Mary Kellog excavated 329 indigenous ceramics, lithics, faunal, glass, burnt clay, botanicals, faunal, and shell from 9BR201, Raines Cave No. 2 in Bartow County, Georgia. Because of the nature of disturbance from looting at the site, these objects are considered unassociated funerary objects to the ancestors excavated at the site. It is not known what, if any additional research has been done on these objects. There is no record of any potentially hazardous substances used to treat the unassociated funerary objects.

From 1988-1990, one bird effigy pipe fragment was removed from 9BR2 Leake, a site in Bartow County. The collection including 31 burials were excavated by University of Georgia during those years and then housed at the University of Georgia, Laboratory of Archaeology. While much research has occurred at this site, it does not appear that any research has occurred on this pipe fragment. There is no record of any potentially hazardous substances used to treat the unassociated funerary objects.

From 1968 to 2009, 391 indigenous ceramics, lithics, soil, burnt clay, faunal including drum fish teeth, and flotation samples were collected from various periods of excavations and surface collections were made at 9GO4, Thompson, in Gordon County, Georgia. These objects are considered unassociated funerary objects due to their proximity to ancestor remains. There is no record of any potentially hazardous substances used to treat the unassociated funerary objects.

In 1968, WW Scheppler surface collected 1,813 indigenous ceramics, lithics, faunal, and shell at 9GO8, Baxter, in Gordon County, Georgia. These objects are considered unassociated funerary objects due to their proximity to ancestor remains. There is no record of any potentially hazardous substances used to treat the unassociated funerary objects.

Determinations

Pursuant to NAGPRA and its implementing regulations, and after consultation with the appropriate Indian Tribes and Native Hawaiian organizations, University of Georgia, Laboratory of Archaeology has determined that:

• The 2,739 cultural items described above are reasonably believed to have been placed with or near individual human remains at the time of death or later as part of the death rite or ceremony and are believed, by a preponderance of the evidence, to have been removed from a specific burial site of a Native American individual.

• There is a relationship of shared group identity that can be reasonably traced between the cultural items and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 29, 2024. If competing requests for repatriation are received, the University of Georgia, Laboratory of Archaeology must determine the most appropriate requestor prior to repatriation. Requests for joint repatriation of the cultural items are considered a single request and not competing requests. The University of Georgia, Laboratory of Archaeology is responsible for sending a copy of this notice to the Indian Tribes and Native Hawaiian organizations identified in this notice and to any other consulting parties.

Authority: Native American Graves Protection and Repatriation Act, 25 U.S.C. 3004 and the implementing regulations, 43 CFR 10.9.

Dated: October 25, 2024.
Melanie O'Brien,
Manager, National NAGPRA Program.

[FR Doc. 2024-25194 Filed 10-29-24; 8:45 am]

BILLING CODE 4312-52-P